DEPARTMENT OF THE INTERIOR

Bureau of Land Management

[LLES964000.L54100000.FR0000]

Notice of Realty Action: Application for Conveyance of Federally Owned Mineral Interests in Escambia County, FL

AGENCY: Bureau of Land Management, Interior.

ACTION: Notice of realty action.

SUMMARY: The Bureau of Land Management (BLM) is processing an application under the Federal Land Policy and Management Act of October 21, 1976 (FLPMA) to convey the undivided mineral interest owned by the United States in 70 acres located in Escambia County, Florida, to the surface owner, Airway Development, LLC. Publication of this notice temporarily segregates the federally owned mineral interests in the land covered by the application from all forms of appropriation under the public land laws, including the mining laws, for up to 2 years while the BLM processes the application.

DATES: Interested persons may submit written comments to the BLM at the address listed below. Comments must be received no later than October 31, 2016.

ADDRESSES: Bureau of Land Management, Eastern States State Office, 20 M Street SE., Suite 950, Washington, DC 20003. Detailed information concerning this action is available for review at this address.

FOR FURTHER INFORMATION CONTACT: Frankie Morgan, Land Law Examiner, by telephone at 202-912-7738 or by email at fmorgan@blm.gov. Persons who use a telecommunications device for the deaf (TDD) may call the Federal Information Relay Service (FIRS) at1-800-877-8339 to contact the above individuals during normal business hours. The FIRS is available 24 hours a day, 7 days a week, to leave a message or question for the above individuals. You will receive a reply during normal business hours.

SUPPLEMENTARY INFORMATION: Airway Development, LLC, the surface owner, has applied to purchase federally owned mineral interests located in Escambia County, Florida, described as follows:

The South 1155′ of the Southwest Quarter of the Northeast Quarter and the South 1155′ of the Southeast Quarter of the Northwest Quarter, all lying in Section 12, Township 1 South, Range 30 West, Escambia County, Florida.

The area described contains 70.00 acres.

Under certain conditions, Section 209(b) of FLPMA authorizes conveyance of the federally owned mineral interests in land to the current or prospective surface owner. As required under Section 209(3)(i) of FLPMA, the applicant deposited a sum of money determined sufficient to cover administrative costs including, but not limited to, the cost for the Mineral Potential Report. The objective of Section 209 is to allow consolidation of the surface and mineral interests when either one of the following conditions exist: (1) There are no known mineral values in the land; or (2) where continued Federal ownership of the mineral interests interferes with or precludes appropriate non-mineral development and such development is a more beneficial use of the land than mineral development. Airway Development, LLC, filed an application for the conveyance of federally owned mineral interests in the above-described tract of land. Subject to valid existing rights, on September 16, 2016 the federally owned mineral interests in the lands described above are hereby segregated from all forms of appropriation under the public land laws, including the mining laws, while the application is being processed to determine if either one of the two specified conditions exists and, if so, to otherwise comply with the procedural requirements of 43 CFR part 2720. The segregation shall terminate upon: (1) Issuance of a patent or other document of conveyance as to such mineral interests; (2) final rejection of the application; or (3) on September 17, 2018, whichever occurs first. Please submit all comments in writing to the individuals at the address listed above.

Before including your address, phone number, email address, or other personal identifying information in your comment, you should be aware that your entire comment, including your personal identifying information, may be made available to the public at any time. While you can ask in your comment to withhold your personal identifying information from public review, we cannot guarantee that we will be able to do so.

Authority: 43 CFR 2720.1-1(b).

Karen Mouritsen,
State Director.

[FR Doc. 2016-22415 Filed 9-15-16; 8:45 am]

BILLING CODE 4310-GJ-P